SMALL BUSINESS ADMINISTRATION

Region II Regulatory Fairness Board Hearing

The Small Business Administration Region II Regulatory Fairness Board and the SBA Office of the National Ombudsman will hold a Public Hearing on Wednesday, January 29, 2003 at 9 a.m. (EST) at the State House Annex, 4th Floor, Assembly Budget Committee Hearing Room, State Street, Trenton, New Jersey 08650, to receive comments and testimony from small business owners, small government entities, and small non-profit organizations concerning regulatory enforcement and compliance actions taken by federal agencies.

Anyone wishing to attend or to make a presentation must contact Natalie Hall in writing or by fax, in order to be put on the agenda. Natalie Hall, U.S. Small Business Administration, New Jersey District Office, 2 Gateway Center, 15th Floor, Newark, NJ 07102, phone (973) 645-3581, fax (973) 645-6265, e-mail natalie.hall@sba.gov.

For more information, see our Web site at www.sba.gov/ombudsman.

Dated: January 8, 2003.
Michael L. Barrera,
National Ombudsman.

[FR Doc. 03-715 Filed 1-13-03; 8:45 am]

BILLING CODE 8025-01-U